DEPARTMENT OF COMMERCE

Foreign-Trade Zones Board

[S-90-2012]

Foreign-Trade Zone 12—McAllen, TX Application for Subzone TST NA TRIM, LLC Hidalgo, TX

An application has been submitted to the Foreign-Trade Zones Board (the Board) by the McAllen Foreign Trade Zone, Inc., grantee of FTZ 12, requesting special-purpose subzone status for the facility of TST NA TRIM, LLC, located in Hidalgo, Texas. The application was submitted pursuant to the provisions of the Foreign-Trade Zones Act, as amended (19 U.S.C. 81a-81u), and the regulations of the Board (15 CFR part 400). It was formally docketed on August 3, 2012.

The proposed subzone is located at 401 E. Olmos in Hidalgo. A notification of proposed production activity has been submitted and will be published separately for public comment. The proposed subzone would be subject to the existing activation limit of FTZ 12.

In accordance with the Board's regulations, Camille Evans of the FTZ Staff is designated examiner to review the application and make recommendations to the Board's Executive Secretary.

Public comment is invited from interested parties. Submissions shall be addressed to the Board's Executive Secretary at the address below. The closing period for their receipt is September 19, 2012. Rebuttal comments in response to material submitted during the foregoing period may be submitted during the subsequent 15-day period to October 4, 2012.

A copy of the application will be available for public inspection at the Office of the Executive Secretary, Foreign-Trade Zones Board, Room 2111, U.S. Department of Commerce, 1401 Constitution Avenue NW., Washington, DC 20230-0002, and in the “Reading Room” section of the Board's Web site, which is accessible via www.trade.gov/ftz. For further information, contact Camille Evans at Camille.Evans@trade.gov or (202) 482-2350.

Dated: August 3, 2012.
Andrew McGilvray,
Executive Secretary.

[FR Doc. 2012-19681 Filed 8-9-12; 8:45 am]

BILLING CODE P